DEPARTMENT OF THE INTERIOR

National Park Service

30-Day Notice of Submission to the Office of Management and Budget (OMB); Opportunity for Public Comment

AGENCY: Department of the Interior, National Park Service.

ACTION: Notice and request for comments.

SUMMARY: Under provisions of the Paperwork Reduction Act of 1995 and 5 CFR part 1320, Reporting and Recordkeeping Requirements, the National Park Service (NPS) invites public comments on a proposed continuation of a collection of information (OMB #1024-0258).

DATES: Public comments on this Information Collection Request (ICR) will be accepted on or before December 28, 2009.

ADDRESSES: You may submit comments directly to the Desk Officer for the Department of the Interior (OMB #1024-0258), Office of Information and Regulatory Affairs, OMB, by fax at 202/395-5806, or by electronic mail at oira_docket@omb.eop.gov. Please also send a copy of your comments to Carol Mansfield, Ph.D., RTI International, 3040 Cornwallis Rd, Research Triangle Park, NC: or via phone: 919/541-8053, or via e-mail at: carolm@rti.org.

FOR FURTHER INFORMATION CONTACT: Dr. James Gramann, NPS Social Science Program, 1201 Eye St., Washington, DC 20005; or via phone at 202/513-7189; or via e-mail James_Gramann@partner.nps.gov. You are entitled to a copy of the entire ICR package free-of-charge. You may access this ICR at http://www.reginfo.gov/public/.

Comments Received on the 60-Day Federal Register Notice:The NPS published a 60-Day Notice to solicit public comments on this ICR entitled “Visitor Surveys for Cape Hatteras National Seashore” in the Federal Register on June 17, 2009, on page 28719. In response to the notice, NPS received a number of comments. The comments and NPS response are summarized below.

(1) Comments supporting or opposing the closure of beaches to beach driving. NPS received a number of comments either supporting or opposing closing the beaches in Cape Hatteras to driving. These comments relate to possible management actions NPS might take, but do not relate to the need for the information collection or the burden of the collection.

(2) Comments on the wording of the questions. NPS received comments on the wording of specific questions. One comment suggested revisions to the description of nesting shorebirds and turtles. The original question used the word “endangered;” however this word has a specific legal meaning. The wording was changed to “protected.”

(3) Comment on additional questions. NPS received a number of comments suggesting additional questions. In response, a question was added on local residents' visitation to Cape Hatteras National Seashore park during 2007. We also added a question about the primary purpose of a visitor's trip.

SUPPLEMENTARY INFORMATION: Title: Visitor Surveys for Cape Hatteras National Seashore.

Bureau Form Number(s): None.

OMB Number: 1024-0258.

Expiration Date: To be requested.

Type of Request: Revision of a currently approved collection.

Description of Need: The National Park Service (NPS) is requesting renewal of an existing information collection that received emergency approval on May 21, 2009. RTI International, under contract with Cape Hatteras National Seashore, has completed a survey of local businesses under the emergency approval and has begun to conduct a visitor survey at Cape Hatteras National Seashore. The request for a renewal is to continue the visitor survey. The survey gathers information that will be used in the Seashore's planning and rulemaking process for an off-road vehicle (ORV) management plan/environmental impact statement and ORV regulation. The continuation of the visitor survey with the renewal request will allow the NPS to obtain a seasonally representative sample of visitors to Cape Hatteras National Seashore. By having seasonal representation, the NPS will have a more complete picture of visitors and visitors' preferences for park management. The information also will provide input into an economic analysis of potential impacts of ORV management at the park.

Automated Data Collection: No automated data collection will be used. Data will be collected via on-site surveys.

Description of Respondents: Visitors to Cape Hatteras National Seashore, including non-local and local residents.

Estimated Average Number of Respondents: 2,000 (1,200 respondents and 800 non-respondents).

Estimated Average Number of Responses: 2,000 (1,200 respondents and 800 non-respondents).

Estimated Average Burden Hours per Response: 20 minutes for respondents and 2 minutes for non-respondents.

Frequency of Response: 1 time per respondent.

Estimated Total Annual Reporting Burden: 427 hours.

Comments are invited on: (1) The practical utility of the information being gathered; (2) the accuracy of the burden hour estimate; (3) ways to enhance the quality, utility, and clarity of the information being gathered; and (4) ways to minimize the burden to respondents, including use of automated information collection techniques or other forms of information. Before including your address, phone number, e-mail address, or other personal identifying information in your comment, you should be aware that your entire comment—including your personal identifying information—may be made publicly available at any time. While you can ask OMB in your comment to withhold your personal identifying information from public review, we cannot guarantee that we will be able to do so.

Dated: November 20, 2009.
Alfred J. Poole,
NPS, Acting Information Collection Clearance Officer.

[FR Doc. E9-28334 Filed 11-25-09; 8:45 am]

BILLING CODE 4310-X6-P